DEPARTMENT OF ENERGY

Federal Energy Regulatory Commission

[Docket No. RP95-408-043]

Columbia Gas Transmission Corporation; Notice of Compliance Filing

January 2, 2002.

Take notice that on December 17, 2001, Columbia Gas Transmission Corporation (Columbia) tendered a filing in compliance with Stipulation II, Article III, Section F, of the settlement filed in Docket No. RP95-408 et al., approved on April 17, 1997 (79 FERC 61,044 (1997)) (Settlement). Pursuant to Article III, Section F, Columbia is filing to comply with the Settlement requirement that all facilities not sold by Columbia as of December 31, 2001, “shall be deemed to have been sold for zero dollars.”

Columbia states further that copies of this filing have been mailed to all parties to the Docket Nos. RP95-408, et al. proceedings.

Any person desiring to protest said filing should file a protest with the Federal Energy Regulatory Commission, 888 First Street, NE., Washington, DC 20426, in accordance with Section 385.211 of the Commission's Rules and Regulations. All such protests must be filed in accordance with Section 154.210 of the Commission's Regulations. Protests will be considered by the Commission in determining the appropriate action to be taken, but will not serve to make protestants parties to the proceedings. Copies of this filing are on file with the Commission and are available for public inspection. This filing may also be viewed on the Web at http://www.ferc.gov using the “RIMS” link, select “Docket#” and follow the instructions (call 202-208-2222 for assistance). Comments, protests and interventions may be filed electronically via the Internet in lieu of paper. See, 18 CFR 385.2001(a)(1)(iii) and the instructions on the Commission's Web site under the “e-Filing” link.

Linwood A. Watson, Jr.,
Acting Secretary.

[FR Doc. 02-337 Filed 1-7-02; 8:45 am]

BILLING CODE 6717-01-P